DEPARTMENT OF DEFENSE

Office of the Secretary

[Docket ID: DoD-2020-OS-0093]

Privacy Act of 1974; System of Records

AGENCY: Office of the Secretary of Defense (OSD), Department of Defense (DoD).

ACTION: Notice of a modified system of records.

SUMMARY: The OSD is modifying the system of records, “Employer Support of the Guard and Reserve Member Management System (MMS),” DHRA 17 DoD. The MMS allows the Employer Support of the Guard and Reserve (ESGR) to maintain a roster of and facilitate communication between ESGR members, as well as track individual training and volunteer efforts. Volunteer leadership can securely access training records of members to adjust resources as necessary to ensure adequate training among volunteer team members. This system of records notice (SORN) is being revised to expand the category of individuals covered by the system. Additional administrative changes were made to update the SORN in accordance with the OMB's requirements.

DATES: This system of records modification is effective upon publication; however, comments on the Routine Uses will be accepted on or before December 10, 2020. The Routine Uses are effective at the close of the comment period.

ADDRESSES: You may submit comments, identified by docket number and title, by any of the following methods:

* Federal Rulemaking Portal: https://www.regulations.gov.

Follow the instructions for submitting comments.

* Mail: The Department of Defense (DoD) cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Lyn Kirby, Defense Privacy, Civil Liberties, and Transparency Division, Directorate for Oversight and Compliance, Department of Defense, 4800 Mark Center Drive, Mailbox #24, Suite 08D09, Alexandria, VA 22350-1700; OSD.DPCLTD@mail.mil; (703) 571-0070.

SUPPLEMENTARY INFORMATION: The ESGR maintains individual voluntary service records for all statutory volunteers within the MMS. The system facilitates communication between the volunteers, tracks training records, and maintains emergency contact information. The ESGR is a DoD program that develops and promotes supportive work environments for Service members in the Reserve Components through outreach, recognition, and educational opportunities that increase awareness of applicable laws.

The DoD notices for systems of records subject to the Privacy Act of 1974, as amended, have been published in the Federal Register and are available from the address in FOR FURTHER INFORMATION CONTACT or at the Defense Privacy, Civil Liberties, and Transparency Division website at https://dpcld.defense.gov.

In accordance with 5 U.S.C. 552a(r) and Office of Management and Budget (OMB) Circular No. A-108, the DoD has provided a report of this system of records to the OMB and to Congress.

Dated: November 5, 2020.
Kayyonne T. Marston,
Alternate OSD Federal Register Liaison Officer, Department of Defense.

SYSTEM NAME AND NUMBER:

Employer Support of the Guard and Reserve Member Management System (MMS), DHRA 17 DoD.

SECURITY CLASSIFICATION:

Unclassified.

SYSTEM LOCATION:

Defense Information Systems Agency (DISA), Computing Directorate Mechanicsburg, 5450 Carlisle Pike, Mechanicsburg, PA 17050-2411.

SYSTEM MANAGER(S):

Executive Director, Headquarters, Employer Support of the Guard and Reserve, 4800 Mark Center Drive, Alexandria, VA 22350-1200, Email: OSD.ESGRITSupport@mail.mil.

AUTHORITY FOR MAINTENANCE OF THE SYSTEM:

10 U.S.C. 136, Under Secretary of Defense for Personnel and Readiness; 10 U.S.C. 1588, Authority to Accept Certain Voluntary Services; DoD Instruction (DoDI) 1205.22, Employer Support of the Guard and Reserve; DoDI 1100.21, Voluntary Services in the Department of Defense; and DoDI 3001.02, Personnel Accountability in Conjunction With Natural or Manmade Disasters.

PURPOSE(S) OF THE SYSTEM:

To maintain a roster of and facilitate communication between Employer Support to the Guard and Reserve (ESGR) members; and track ESGR-related training, awards, and hours donated by ESGR Department of Defense (DoD) volunteer staff. To maintain personnel accountability and ESGR DoD volunteer emergency contact information for accountability during manmade disasters and other emergencies.

CATEGORIES OF INDIVIDUALS COVERED BY THE SYSTEM:

DoD-affiliated personnel to include: Military Service members (active duty, Guard/Reserve and the Coast Guard personnel), civilian employees (including non-appropriate fund employees); and other individuals working for or affiliated with ESGR.

CATEGORIES OF RECORDS IN THE SYSTEM:

Name; home and work address; phone numbers (home, work, and mobile); email addresses (work and personal); position/title; assigned military unit and rank; official report and departure date;

ESGR affiliation (State Committee region or headquarters); military base for volunteer activity; ESGR-related training completed; and emergency contact information to include name, phone number, and relationship.

Additional information collected on DoD volunteers include: Volunteer hours performed; awards; mentor/mentee assignments; military experience (component, rank, status, and years of service); civilian work experience (industry and position type); special skills or qualifications; shirt size; and form of DoD identification (where applicable).

RECORD SOURCE CATEGORIES:

The individual.

ROUTINE USES OF RECORDS MAINTAINED IN THE SYSTEM, INCLUDING CATEGORIES OF USERS AND PURPOSES OF SUCH USES:

In addition to those disclosures generally permitted under 5 U.S.C. 552a (b) of the Privacy Act of 1974, as amended, these records contained herein may specifically be disclosed outside the DoD as a routine use pursuant to 5 U.S.C. 552a(b)(3) as follows:

a. To contractors, grantees, experts, consultants, students, and others responsible for performing or working on contracts for the DoD when necessary to accomplish an agency function related to this System of Records.

b. To the appropriate Federal, State, local, territorial, tribal, foreign, or international law enforcement authority or other appropriate entity where a record, either alone or in conjunction with other information, indicates a violation or potential violation of law, whether criminal, civil, or regulatory in nature.

c. To any component of the Department of Justice for the purpose of representing the DoD, or its components, officers, employees, or members in pending or potential litigation to which the record is pertinent.

d. In an appropriate proceeding before a court, grand jury, or administrative or adjudicative body or official, when the DoD or other Agency representing the DoD determines the records are relevant and necessary to the proceeding; or in an appropriate proceeding before an administrative or adjudicative body when the adjudicator determines the records to be relevant to the proceeding.

e. To the National Archives and Records Administration for the purpose of records management inspections conducted under the authority of 44 U.S.C. 2904 and 2906.

f. To a Member of Congress or staff acting upon the Member's behalf when the Member or staff requests the information on behalf of, and at the request of, the individual who is the subject of the record.

g. To appropriate agencies, entities, and persons when (1) the DoD suspects or confirms a breach of the System of Records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

h. To another Federal agency or Federal entity, when the DoD determines information from this System of Records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Electronic storage media.

POLICIES AND PRACTICES FOR RETRIEVAL OF RECORDS:

Records are retrieved by full name and ESGR affiliation.

POLICIES AND PRACTICES FOR RETENTION AND DISPOSAL OF RECORDS:

Headquarters Personnel Records. Cut off upon employee separation or transfer. Destroy upon supersession or 1 year after cut off. Volunteer Staff Records: Cut off upon volunteer departure from program. Destroy/delete 4 years after cut off.

ADMINISTRATIVE, TECHNICAL, AND PHYSICAL SAFEGUARDS:

All personally identifiable information (PII) is maintained in a secure, password protected electronic system. The system utilizes security hardware and software to include physical controls such as combination locks, cipher locks, key cards, identification badges, closed circuit televisions, and controlled screenings. Technical controls include the use of user identifications and passwords, intrusion detection systems, encryption, Common Access Cards (CAC), firewalls, virtual private networks, role-based access controls, and two-factor authentication. Administrative controls include periodic security audits, regular monitoring of users' security practices, methods to ensure only authorized personnel access information, encryption of backups containing sensitive data, visitor registers, and backups secured off-site.

RECORD ACCESS PROCEDURES:

Individuals seeking access to records about themselves contained in this system should address written inquiries to the Office of the Secretary of Defense/Joint Staff, Freedom of Information Act Requester Service Center, Office of Freedom of Information, 1155 Defense Pentagon, Washington, DC 20301-1155. Signed written requests should contain the individual's full name, personal contact information (home address, phone number, email), and the number and name of this system of records notice. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are contained in 32 CFR part 310 or may be obtained from the system manager.

NOTIFICATION PROCEDURES:

Individuals seeking to determine whether information about themselves is contained in this system should address written inquiries to the Executive Director, Headquarters, Employer Support of the Guard and Reserve, 4800 Mark Center Drive, Alexandria, VA 22350-1200. Signed written requests should contain the individual's full name, ESGR affiliation, and personal contact information (home address, phone number, and email).

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

81 FR 37585, June 10, 2016.

[FR Doc. 2020-24934 Filed 11-9-20; 8:45 am]

BILLING CODE 5001-06-P